DEPARTMENT OF DEFENSE

Department of the Navy

Privacy Act of 1974; System of Records

AGENCY: Department of the Navy, DoD.

ACTION: Notice to Amend Record System.

SUMMARY: The Department of the Navy proposes to amend a system of records notice in its inventory of record systems subject to the Privacy Act of 1974 (5 U.S.C. 552a), as amended.

DATES: The amendments will be effective on July 23, 2001 unless comments are received that would result in a contrary determination.

ADDRESSES: Send comments to the Department of the Navy, PA/FOIA Policy Branch, Chief of Naval Operations (N09B10), 2000 Navy Pentagon, Washington, DC 20350-2000.

FOR FURTHER INFORMATION CONTACT: Mrs. Doris Lama at (202) 685-6545 or DSN 325-6545.

SUPPLEMENTARY INFORMATION: The Department of the Navy's record system notices for records systems subject to the Privacy Act of 1974 (5 U.S.C. 552a), as amended, have been published in the Federal Register and are available from the address above.

The Department of the Navy proposes to amend a system of records notice in its inventory of record systems subject to the Privacy Act of 1974 (5 U.S.C. 552a), as amended. The changes to the system of records are not within the purview of subsection (r) of the Privacy Act of 1974 (5 U.S.C. 552a), as amended, which requires the submission of new or altered systems reports. The records system being amended is set forth below, as amended, published in its entirety.

Dated: June 14, 2001.
L.M. Bynum,
Alternate OSD Federal Register Liaison Officer, Department of Defense.

N01500-2

System name:

Student Records (November 10, 1998, 63 FR 63035).

Changes:

* * * * *

System name:

Delete entry and replace with “Student/SMART Records.”

System location:

Delete entry and replace with “Student records are located at schools and other training activities or elements of the Department of the Navy and Marine Corps. Official mailing addresses are published as an appendix to the Navy's compilation of systems of records notices.

Sailor/Marine American Council on Education Registry Transcript (SMART) records are maintained at the Navy College Center (N2A5), 6490 Saufley Field Road, Pensacola, FL 32509-5204.”

Categories of individuals covered by the system:

Delete entry and replace with “Student records cover present, former, and prospective students at Navy and Marine Corps schools and other training activities or associated educational institution of Navy sponsored programs; instructors, staff and support personnel; participants associated with activities of /the Naval Education and Training Command, including the Navy College Office and other training programs; tutorial and tutorial volunteer programs; dependents' schooling.

SMART records cover Active duty Navy and Marine Corps members; reservists; and separated or retired Navy and Marine Corps members.”

Categories of records in the system:

Delete entry and replace with “Student Records: Schools and personnel training programs administration and evaluation records. Such records as basic identification records i.e., Social Security Number, name, sex, date of birth, personnel records, i.e., rank/rate/grade, branch of service, billet, expiration of active obligated service, professional records, i.e., Navy enlisted classification, military occupational specialty for Marines, subspecialty codes, test scores, psychological profile, basic test battery scores, and Navy advancement test scores. Educational records i.e., education levels, service and civilian schools attended, degrees, majors, personnel assignment data, course achievement data, class grades, class standing, and attrition categories.

Academic/training records, manual and mechanized, and other records of educational and professional accomplishment. SMART Records: Certified to be true copies of service record page 4; certificates of completion; college transcripts; test score completions; grade reports; Request for Sailor/Marine American Council on Education Registry Transcript.”

Authority for maintenance of the system:

Delete entry and replace with “5 U.S.C. 301, Departmental Regulations; 10 U.S.C. 4302, Enlisted members of Army: schools; and E.O. 9397 (SSN).”

Purpose(s):

Delete entry and replace with “Student Records: To record course and training demands, requirements, and achievements; analyze student groups or courses; provide academic and performance evaluation in response to official inquiries; provide guidance and counseling to students; prepare required reports; and for other training administration and planning purposes.

For SMART Records:

To provide recommended college credit based on military experience and training to colleges and universities for review and acceptance. Requesters may have information mailed to them or the college(s)/university(ies) of their choice.”

* * * * *

Retention and disposal:

Delete entry and replace with “Student Records: Destroyed after completion of training, transfer, or discharge, provided the data has been recorded in the individual's service record or on the student's record card.

SMART Records:

Automated SMART (transcripts) are retained permanently. Documents submitted to compile, update, or correct SMART records, which include service record page 4s, transcripts, and certificates, are destroyed after 3 years.”

* * * * *

N01500-2

System name:

Student/SMART Records.

System location:

Student records are located at schools and other training activities or elements of the Department of the Navy and Marine Corps. Official mailing addresses are published as an appendix to the Navy's compilation of systems of records notices.

Sailor/Marine American Council on Education Registry Transcript (SMART) records are maintained at the Navy College Center (N2A5), 6490 Saufley Field Road, Pensacola, FL 32509-5204.

Categories of Individuals covered by the system:

Student records cover Present, former, and prospective students at Navy and Marine Corps schools and other training activities or associated educational institution of Navy sponsored programs; instructors, staff and support personnel; participants associated with activities of the Naval Education and Training Command; tutorial and tutorial volunteer programs; dependents' schooling.

SMART records cover Active duty Navy and Marine Corps members; reservists; and separated or retired Navy and Marine Corps members.

Categories of records in the system:

Schools and personnel training programs administration and evaluation records. Such records as basic identification records i.e., Social Security Number, name, sex, date of birth, personnel records i.e., rank/rate/grade, branch of service, billet, expiration of active obligated service, professional records i.e., Navy enlisted classification, military occupational specialty for Marines, sub-specialty codes, test scores, psychological profile, basic test battery scores, and Navy advancement test scores. Educational records i.e., education levels, service and civilian schools attended, degrees, majors, personnel assignment data, course achievement data, class grades, class standing, and attrition categories. Academic/training records, manual and mechanized, and other records of educational and professional accomplishment.

Authority for maintenance of the system:

5 U.S.C. 301, Departmental Regulations; 10 U.S.C. 4302, Enlisted members of the Army: schools; and E.O. 9397 (SSN).

Purpose(s):

Student Records. To record course and training demands, requirements, and achievements; analyze student groups or courses; provide academic and performance evaluation in response to official inquiries; provide guidance and counseling to students; prepare required reports; and for other training administration and planning purposes.

SMART Records:

To provide recommended college credit based on military experience and training to colleges and universities for review and acceptance. Requesters may have information mailed to them or the college(s)/university(ies) of their choice.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” that appear at the beginning of the Navy's compilation of systems of records notices apply to this system.

Policies and practices for storing, retrieving, accessing, retaining, and disposing of records in the system:

Storage:

Manual records may be stored in file folders, card files, file drawers, cabinets, or other filing equipment. Automated records may be stored on magnetic tape, discs, or in personal computers.

Retrievability:

Name and Social Security number.

Safeguards:

Access is provided on a “need-to-know” basis and to authorized personnel only. Records are maintained in controlled access rooms or areas. Data is limited to personnel training associated information. Computer terminal access is controlled by terminal identification and the password or similar system. Terminal identification is positive and maintained by control points. Physical access to terminals is restricted to specifically authorized individuals. Password authorization, assignment and monitoring are the responsibility of the functional managers. Information provided via batch processing is of a predetermined and rigidly formatted nature. Output is controlled by the functional managers who also control the distribution of output.

Retention and disposal:

Student Records:

Destroyed after completion of training, transfer, or discharge, provided the data has been recorded in the individual's service record or on the student's record card.

SMART Records:

Automated SMART (transcripts) are retained permanently. Documents submitted to compile, update, or correct SMART records, which include service record page 4s, transcripts, and certificates, are destroyed after 3 years.

System manager(s) and address:

For student records: The commanding officer of the activity in question. Official mailing addresses are published as an appendix to the Navy's compilation of systems of records notices.

For SMART records:

Director, Navy College Center (N2A5), 6490 Saufley Field Road, Pensacola, FL 32509-5204.

Notification procedure:

Individuals seeking to determine whether information about themselves is contained in this system should address written inquiries to the appropriate official below:

For student records:

Address inquiries to the commanding officer of the activity in question. Official mailing addresses are published as an appendix to the Navy's compilation of systems of records notices. Requester should provide his full name, Social Security Number, military or civilian duty status, if applicable, and other data when appropriate, such as graduation date. Visitors should present drivers license, military or Navy civilian employment identification card, or other similar identification.

For SMART records:

Requester should address inquiries to the Director, Navy College Center (N2A5), 6490 Saufley Field Road, Pensacola, FL 32509-5204. Send a completed “Request for Sailor/Marine American Council on Education Registry Transcript” which solicits full name, command address, current rate/rank, Social Security Number, home and work telephone numbers, current status branch of service, etc., and must be signed.

Record access procedures:

Individuals seeking to access information about themselves contained in this system should address written inquiries to the appropriate official below:

For student records:

Address inquiries to the commanding officer of the activity in question. Official mailing addresses are published as an appendix to the Navy's compilation of systems of records notices. Requester should provide his full name, Social Security Number, military or civilian duty status, if applicable, and other data when appropriate, such as graduation date. Visitors should present drivers license, military or Navy civilian employment identification card, or other similar identification.

For SMART records:

Requester should address inquiries to the Director, Navy College Center (N2A5), 6490 Saufley Field Road, Pensacola, FL 32509-5204. Send a completed “Request for Sailor/Marine American Council on Education Registry Transcript” which solicits full name, command address, current rate/rank, Social Security Number, home and work telephone numbers, current status branch of service, etc., and must be signed.

Contesting record procedures:

The Navy's rules for accessing records, and for contesting contents and appealing initial agency determinations are published in Secretary of the Navy Instruction 5211.5; 32 CFR part 701; or may be obtained from the system manager.

Record source categories:

Individual; schools and education institutions; Commander, Navy Personnel Command; Chief of Naval Education and Training; Commandant of the Marine Corps; Commanding Officer, Naval Special Warfare Center; Commander, Navy Recruiting Command; and instructor personnel.

Exemptions claimed for the system:

None.

[FR Doc. 01-15591 Filed 6-20-01; 8:45 am]

BILLING CODE 5001-08-M